DEPARTMENT OF HEALTH AND HUMAN SERVICES

Administration for Children and Families

Submission for OMB Review; Comment Request

Title: Innovative Strategies for Increasing Self-Sufficiency: Baseline Data Collection.

OMB No.: New Collection.

Description: The Administration for Children and Families (ACF), U.S. Department of Health and Human Services (HHS), is proposing a data collection activity as part of the Innovative Strategies for Increasing Self-Sufficiency (ISIS) demonstration and evaluation. The ISIS project will test a range of promising strategies to promote employment, self-sufficiency, and reduce dependence on cash welfare. The ISIS project will evaluate multiple employment-focused strategies that build on previous approaches and are adapted to the current Federal, State, and local policy environment. The major goals of the project include increasing the empirical knowledge about the effectiveness of a variety of programs for low-income families to sustain employment and advance to positions that enable self-sufficiency, as well as producing useful findings for both policymakers and program administrators.

This proposed information collection activity focuses on collecting baseline data elements. Two data collection instruments will be completed by all participants prior to random assignment, and a third mill be an interview guide to collect information from program staff. The first is a short baseline information form (BIF) that will collect basic identification, demographic, and contact information. The form will include relatively standard items from prior evaluations and national surveys. The second instrument will be a self-administered questionnaire (SAQ), covering information related to the project goals. The third instrument, baseline implementation data collection interviews, will be used to collect information from knowledgeable informants about the service context for each evaluation site using a baseline implementation guide. The purpose of such interviews is to document and assess the service environment in which the evaluation is implemented and the opportunities for control group members to access the same or similar services as the treatment group members.

Respondents: Individuals enrolled in ISIS demonstration interventions, control group members, ISIS program operators (BIF and SAQ) and State and local informants (interviews).

Annual Burden Estimates
Instrument | Annual number of respondents | Number of responses per respondent | Average burden hours per response | Total annual burden hours
Baseline Information Form | 4,800 | 1 | 0.75 | 3,600
Self-Administered Questionnaire | 4,800 | 1 | 0.75 | 3,600
Baseline Implementation Data Collection Interviews | 30 | 1 | 1 | 30

Estimated Total Annual Burden Hours: 7,230

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: June 10, 2011.
Steven M. Hanmer,
OPRE Reports Clearance Officer.

[FR Doc. 2011-14869 Filed 6-15-11; 8:45 am]

BILLING CODE 4184-09-M